DEPARTMENT OF COMMERCE

National Oceanic and Atmospheric Administration

50 CFR Part 622

[Docket No. 120404257-3325-02; RTID 0648-XE009]

Fisheries of the Caribbean, Gulf of Mexico, and South Atlantic; 2024 Commercial Longline Closure for Golden Tilefish in the South Atlantic

AGENCY: National Marine Fisheries Service (NMFS), National Oceanic and Atmospheric Administration (NOAA), Commerce.

ACTION: Temporary rule; closure.

SUMMARY: NMFS implements an accountability measure for the commercial longline component of golden tilefish in South Atlantic Federal waters. Commercial landings of golden tilefish harvested by bottom longline gear are projected to reach the 2024 commercial quota for the longline component. Therefore, NMFS closes the commercial longline component of golden tilefish in South Atlantic Federal waters. This closure is necessary to protect the golden tilefish resource.

DATES: This temporary rule is effective from June 8, 2024, through December 31, 2024.

FOR FURTHER INFORMATION CONTACT: Jack McGovern, NMFS Southeast Regional Office, telephone: 727-204-5518, email: john.mcgovern@noaa.gov.

SUPPLEMENTARY INFORMATION: The snapper-grouper fishery of the South Atlantic includes golden tilefish and is managed under the Fishery Management Plan for the Snapper-Grouper Fishery of the South Atlantic Region (FMP). The FMP was prepared by the South Atlantic Fishery Management Council (Council) and NMFS, and is implemented by NMFS under the authority of the Magnuson-Stevens Fishery Conservation and Management Act (Magnuson-Stevens Act) by regulations at 50 CFR part 622.

The commercial sector for golden tilefish has two components, each with its own quota: the longline and hook-and-line components [50 CFR 622.190(a)(2)]. The commercial annual catch limit (ACL) for golden tilefish is allocated as 75 percent to the longline component and 25 percent to the hook-and-line component. The total commercial ACL in 2024, which is equivalent to the total commercial quota, is 433,216 pounds (lb) or 196,503 kilograms (kg) in gutted weight. The longline component quota for 2024 is 324,912 lb (147,378 kg) in gutted weight [50 CFR 622.190(a)(2)(iii)(B)].

Under 50 CFR 622.193(a)(1)(ii), NMFS is required to close the commercial longline component for the harvest of golden tilefish when its quota has been reached or is projected to be reached. After this closure, golden tilefish may not be commercially fished or possessed by a vessel with a South Atlantic golden tilefish longline endorsement. NMFS projects that commercial landings of golden tilefish harvested by bottom longline gear from South Atlantic Federal waters will reach the 2024 component quota by June 8, 2024. Accordingly, the commercial longline component of South Atlantic golden tilefish is closed beginning on June 8, 2024, and will remain closed through the rest of the fishing year ending on December 31, 2024.

The sale or purchase of longline-caught golden tilefish harvested from South Atlantic Federal waters is prohibited during the commercial longline closure. The operator of a vessel with a valid Federal commercial vessel permit for South Atlantic snapper-grouper and a valid commercial longline endorsement for golden tilefish with golden tilefish on board must have landed and bartered, traded, or sold such golden tilefish before June 8, 2024. The prohibition on sale or purchase does not apply to the sale or purchase of longline-caught golden tilefish that were harvested, landed ashore, and sold before June 8, 2024, and were held in cold storage by a dealer or processor. Additionally, the recreational bag and possession limits and the sale and purchase prohibitions under the commercial quota closure apply to a person on board a vessel with a golden tilefish longline endorsement apply to the harvest of golden tilefish from state or Federal waters, as specified in 50 CFR 622.190(c)(1).

On March 1, 2024, NMFS also closed the recreational harvest of golden tilefish in the South Atlantic for the rest of 2024 (89 FR 14415, February 27, 2024). Therefore, during the commercial longline closure and for the rest of 2024, all harvest or possession of golden tilefish in or from South Atlantic Federal waters or adjacent state waters is prohibited by a vessel with a golden tilefish longline endorsement.

The 2025 fishing season for the commercial harvest of South Atlantic golden tilefish with bottom longline gear opens again on January 15, 2025 [50 CFR 622.183(b)(11)].

During the commercial longline closure, golden tilefish may still be commercially harvested using hook-and-line gear on a vessel with a South Atlantic unlimited snapper-grouper commercial permit and without a longline endorsement until the hook-and-line quota specified in 50 CFR 622.190(a)(2)(ii)(B) is reached. A vessel with a golden tilefish longline endorsement at any time during a fishing year is not eligible to fish for or possess golden tilefish using hook-and-line gear under the hook-and-line commercial trip limit, as specified in 50 CFR 622.191(a)(2)(ii).

Classification

NMFS issues this action pursuant to section 305(d) of the Magnuson-Stevens Act. This action is required by 50 CFR 622.193(a)(1)(ii), issued pursuant to section 304(b), and is exempt from review under Executive Order 12866.

Pursuant to 5 U.S.C. 553(b)(B), there is good cause to waive prior notice and an opportunity for public comment on this action, as notice and comment are unnecessary and contrary to the public interest. Such procedures are unnecessary because the regulations associated with the commercial closure of the golden tilefish longline component have already been subject to notice and public comment, and all that remains is to notify the public of the closure. Prior notice and opportunity for public comment on this action is contrary to the public interest because of the need to immediately implement the commercial longline component closure to protect the golden tilefish resource in the South Atlantic. The capacity of the longline fishing fleet allows for rapid harvest of the commercial longline component quota, and any delay in the commercial closure could result in the exceedance of the commercial longline component quota. Prior notice and opportunity for public comment would require time and would potentially result in a harvest that exceeds the commercial quota.

For the reasons just stated, NMFS also finds good cause to waive the 30-day delay in the effectiveness of this action under 5 U.S.C. 553(d)(3).

Authority: 16 U.S.C. 1801 et seq.

Dated: May 31, 2024.
Karen H. Abrams,
Acting Director, Office of Sustainable Fisheries, National Marine Fisheries Service.

[FR Doc. 2024-12373 Filed 6-3-24; 4:15 pm]

BILLING CODE 3510-22-P